POSTAL SERVICE

International Product Change—Inbound Market Dominant Non-Published Rate Agreements With Foreign Postal Operators

AGENCY: Postal Service™.

ACTION: Notice.

SUMMARY: The Postal Service gives notice of filing a request with the Postal Regulatory Commission to add Inbound Market Dominant Non-Published Rate Agreements with Foreign Postal Operators to the Market Dominant Product List.

DATES: Date of notice: August 20, 2019.

FOR FURTHER INFORMATION CONTACT: Christopher C. Meyerson, 202-268-7820.

SUPPLEMENTARY INFORMATION: The United States Postal Service® hereby gives notice that, pursuant to 39 U.S.C. 3642, on August 14, 2019, it filed with the Postal Regulatory Commission a Request of United States Postal Service to add Inbound Market Dominant Non-Published Rate Agreements with Foreign Postal Operators to the Market Dominant Product List, Notice of a Type 2 Rate Adjustment in the form of an Inbound Market Dominant NPR-FPO 1 Model Contract, and Application for Non-Public Treatment of Materials Filed Under Seal. Documents are available at www.prc.gov, Docket Nos. MC2019-187 and R2019-2.

Christopher C. Meyerson,
Attorney, Corporate and Postal Business Law.

[FR Doc. 2019-17885 Filed 8-19-19; 8:45 am]

BILLING CODE 7710-12-P